DEPARTMENT OF COMMERCE

Office of the Secretary

Estimates of the Voting Age Population for 2010

AGENCY: Office of the Secretary, Commerce.

ACTION: General Notice Announcing Population Estimates.

SUMMARY: This notice announces the voting age population estimates as of July 1, 2010, for each state and the District of Columbia. We are providing this notice in accordance with the 1976 amendment to the Federal Election Campaign Act, Title 2, United States Code, Section 441a(e). It is important to note that these estimates are based on Census 2000. Therefore, there may be differences between these estimates and results released from Census 2010.

FOR FURTHER INFORMATION CONTACT: Enrique Lamas, Chief, Population Division, U.S. Census Bureau, Room HQ-5H174, Washington, DC 20233, at 301-763-2071.

SUPPLEMENTARY INFORMATION: Under the requirements of the 1976 amendment to the Federal Election Campaign Act, Title 2, United States Code, Section 441a(e), I hereby give notice that the estimates of the voting age population for July 1, 2010, for each state and the District of Columbia are as shown in the following table.

Estimates of the Population of Voting Age for Each State and the District of Columbia: July 1, 2010
Area | Population 18 and over | Area | Population 18 and over
United States | 234,518,398 |  |
Alabama | 3,599,303 | Missouri | 4,589,980
Alaska | 527,205 | Montana | 764,058
Arizona | 4,940,296 | Nebraska | 1,359,656
Arkansas | 2,195,465 | Nevada | 1,977,693
California | 27,795,779 | New Hampshire | 1,043,155
Colorado | 3,865,036 | New Jersey | 6,691,782
Connecticut | 2,727,907 | New Mexico | 1,514,872
Delaware | 685,978 | New York | 15,167,513
District of Columbia | 494,192 | North Carolina | 7,188,327
Florida | 14,616,271 | North Dakota | 511,050
Georgia | 7,324,792 | Ohio | 8,840,340
Hawaii | 1,006,338 | Oklahoma | 2,796,489
Idaho | 1,143,651 | Oregon | 2,986,164
Illinois | 9,777,437 | Pennsylvania | 9,880,374
Indiana | 4,861,307 | Rhode Island | 833,168
Iowa | 2,313,538 | South Carolina | 3,515,754
Kansas | 2,133,356 | South Dakota | 620,912
Kentucky | 3,323,606 | Tennessee | 4,847,129
Louisiana | 3,397,965 | Texas | 18,210,592
Maine | 1,048,523 | Utah | 1,951,049
Maryland | 4,385,947 | Vermont | 500,054
Massachusetts | 5,203,385 | Virginia | 6,103,947
Michigan | 7,623,767 | Washington | 5,170,543
Minnesota | 4,038,685 | West Virginia | 1,439,342
Mississippi | 2,194,892 | Wisconsin | 4,372,515
|  | Wyoming | 417,319
Source: U.S. Census Bureau, Population Division
Note: These estimates are based on Census 2000 and do not reflect results from Census 2010.

I have certified these counts to the Federal Election Commission.

Dated: June 15, 2011.
Gary Locke,
Secretary, U.S. Department of Commerce.

[FR Doc. 2011-15968 Filed 6-24-11; 8:45 am]

BILLING CODE 3510-07-P